ENVIRONMENTAL PROTECTION AGENCY

[EPA-HQ-OECA-2013-0315; FRL-9907-94-OEI]

Information Collection Request Submitted to OMB for Review and Approval; Comment Request; NSPS for Commercial and Industrial Solid Waste Incineration (CISWI) Units (Renewal)

AGENCY: Environmental Protection Agency (EPA).

ACTION: Notice.

SUMMARY: The Environmental Protection Agency has submitted an information collection request (ICR), “NSPS for Commercial and Industrial Solid Waste Incineration (CISWI) Units (40 CFR part 60, Subpart CCCC) (Renewal)” (EPA ICR No. 2384.03, OMB Control No. 2060-0662), to the Office of Management and Budget (OMB) for review and approval in accordance with the Paperwork Reduction Act (44 U.S.C. 3501 et seq). This is a proposed extension of the ICR, which is currently approved through May 31, 2014. Public comments were previously requested via the Federal Register (78 FR 35023) on June 11, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 17, 2014.

ADDRESSES: Submit your comments, referencing Docket ID Number EPA-HQ-OECA-2013-0315, to: (1) EPA online, using www.regulations.gov (our preferred method), or by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: The NSPS fulfills the requirements of sections 111 and 129 of the Clean Air Act (CAA), which require EPA to promulgate New Source Performance Standard (NSPS) for solid waste incineration units. This regulation amends the 2000 CISWI NSPS currently in affect. The information collection activities required by the NSPS include: Site requirements, operator training and qualification requirements, testing, monitoring and reporting requirements, one-time and periodic reports, and the maintenance of records. These activities will enable EPA to determine initial compliance with the emission limits for the regulated pollutants, monitor compliance with operating parameters, and ensure that facilities conduct the proper planning and operator training.

Form Numbers: None.

Respondents/affected entities: Owners and operators of commercial and industrial solid waste incineration units.

Respondent's obligation to respond: Mandatory (40 CFR part 60, subpart CCCC).

Estimated number of respondents: 5 (total).

Frequency of response: Initially, occasionally, and annually.

Total estimated burden: 1,036 hours (per year). “Burden” is defined at 5 CFR 1320.3(b).

Total estimated cost: $451,859 (per year), includes $350,476 annualized capital or operation & maintenance costs.

Changes in the Estimates: There is an increase in the total estimated respondent burden when compared with the ICR currently-approved by OMB. This increase is due to a multitude of factors including an increase in the respondent universe since the last ICR period, an update to the labor rates, as well as corrections to errors in the burden estimates. The primary correction included revising the number of existing respondents subject to annual reporting and recordkeeping requirements.

There is also an increase in the total capital and O&M costs due to an increase in the number of respondents. In addition, this ICR corrects the number of respondents that have to maintain monitors, which also contributes to the increase in O&M costs.

There is also a decrease in the Agency burden and cost due to several corrections, primarily associated with the frequency of observing initial stack tests and reviewing excess emission reports.

Richard T. Westlund,
Acting Director, Collection Strategies Division.

[FR Doc. 2014-05884 Filed 3-17-14; 8:45 am]

BILLING CODE 6560-50-P